DEPARTMENT OF THE INTERIOR

Bureau of Land Management

[LLMT922200-14-L13100000-FI0000-P; NDM93267]

Notice of Proposed Reinstatement of Terminated Oil and Gas Lease NDM 93267, North Dakota

AGENCY: Bureau of Land Management, Interior.

ACTION: Notice.

SUMMARY: Under the provisions of the Mineral Leasing Act of 1920, Hess Corporation timely filed a petition for reinstatement of noncompetitive oil and gas lease NDM 93267, Mountrail County, North Dakota. The lessee paid the required rentals accruing from the date of termination. No leases were issued that affect these lands.

FOR FURTHER INFORMATION CONTACT: Mary A. Mack, Acting Chief, Fluids Adjudication Section, Bureau of Land Management (BLM) Montana State Office, 5001 Southgate Drive, Billings, MT 59101-4669, telephone: 406-896-5090, email: mmack@blm.gov.

Persons who use a telecommunications device for the deaf (TDD) may call the Federal Information Relay Service (FIRS) at 1-800-877-8339 to contact Ms. Mack during normal business hours. The FIRS is available 24 hours a day, 7 days a week, to leave a message or question for Ms. Mack. You will receive a reply during normal business hours.

SUPPLEMENTARY INFORMATION: The lessee agrees to new lease terms for rentals and royalties of $5 per acre, or fraction thereof, per year, and 16⅔ percent, respectively. The lessee agrees to additional or amended stipulations. The lessee paid the $500 administration fee for the reinstatement of the lease and the $159 cost for publishing this Notice.

The lessee met the requirements for reinstatement of the lease under Section 31(d) and (e) of the Mineral Leasing Act of 1920. The BLM is proposing to reinstate the lease, effective the date of termination, subject to the:

• Original terms and conditions of the lease;

• Additional and amended stipulations;

• Increased rental of $5 per acre;

• Increased royalty of 16-2/3 percent; and

• $159 cost of publishing this Notice.

Mary A. Mack,
Acting Chief, Fluids Adjudication Section.

[FR Doc. 2014-21432 Filed 9-8-14; 8:45 am]

BILLING CODE 4310-DN-P